DEPARTMENT OF DEFENSE

Department of the Army, Corps of Engineers

Availability of a Draft Integrated Feasibility Report (Feasibility Report/Environmental Impact Statement), Flood Risk Management Study, Little Colorado River at Winslow, Navajo County, AZ

AGENCY: Department of the Army, U.S. Army Corps of Engineers, DoD.

ACTION: Notice of availability.

SUMMARY: The U.S. Army Corps of Engineers (Corps), in cooperation with Navajo County Flood Control District, announces the availability of a Draft Integrated Feasibility Report (Draft IFR) including Feasibility Report and Environmental Impact Statement (EIS) for the Little Colorado River at Winslow Flood Risk Management Study, Navajo County, AZ for review and comment. The study evaluates alternatives to reduce the risk of damages and to reduce the life, safety, and health risks caused by flooding of the Little Colorado River (LCR) to the City of Winslow, surrounding community, and public and private infrastructure. A Notice of Intent to prepare the Draft EIS was published in the Federal Register on February 27, 2009 (74 FR 8918).

DATES: The Draft IFR is available for a 45-day review period pursuant to the National Environmental Policy Act (NEPA). Written comments pursuant to the NEPA will be accepted until the close of public review at close of business on July 18, 2016.

ADDRESSES: Questions or comments concerning the Draft IFR may be directed to: Eduardo T. De Mesa; Chief, Planning Division; U.S. Army Corps of Engineers; Los Angeles District; 915 Wilshire Boulevard, Suite 930; ATTN: Mr. Kirk C. Brus, CESPL-PD-RL; Los Angeles, CA 90017-3401 or LCRWinslow@usace.army.mil.

FOR FURTHER INFORMATION CONTACT: Mr. Richard Legere, U.S. Army Corps of Engineers, Los Angeles District, phone number (602) 230-6907, and Mr. Kirk C. Brus, U.S. Army Corps of Engineers, Los Angeles District, phone number (213) 452-3876.

SUPPLEMENTARY INFORMATION: As part of the public involvement process, notice is hereby given by the Corps Los Angeles District of public meetings to be held at the Church of Jesus Christ of Latter-day Saints, 205 Lee Street, Winslow, AZ 86047, from 3:00 p.m. to 5:00 p.m. and 6:30 p.m. to 9:30 p.m. on Thursday, June 9, 2016. The public meeting will allow participants the opportunity to comment on the IFR. Attendance at the public hearing is not necessary to provide comments. Written comments may also be given to the contacts listed under ADDRESSES.

The document is available for review at:

(1) Online at: http://www.spl.usace.army.mil/Missions/CivilWorks/ProjectsStudies/LittleColoradoRiverWinslow.aspx.

(2) Navajo County Library District; 121 W. Buffalo Street; Holbrook, AZ 86025; 1 CD and 1 Hard Copy.

(3) Winslow Public Library; 420 W. Gilmore Street; Winslow, AZ 86047; 1 CD and 1 Hard Copy.

(4) Holbrook Public Library; 403 Park St.; Holbrook, AZ 86025.

(5) Hopi Public Library; 1 Main Street; c/o Hopi Education Dept.; Kykotsmovi, AZ 86039; 1 CD and 1 Hard Copy.

(6) Navajo County Flood Control District, 100 W. Public Works Drive; Holbrook, AZ 86025.

(7) U.S. Army Corps of Engineers, Los Angeles District; 915 Wilshire Blvd., Los Angeles, CA 90017.

Dated: May 25, 2016.
Kirk E. Gibbs,
Colonel, U.S. Army Commander and District Engineer.

[FR Doc. 2016-13077 Filed 6-2-16; 8:45 am]

BILLING CODE 3720-58-P